DEPARTMENT OF HEALTH AND HUMAN SERVICES

Substance Abuse and Mental Health Services Administration

Meeting of the Substance Abuse and Mental Health Services Administration National Advisory Council

AGENCY: Substance Abuse and Mental Health Services Administration, HHS.

ACTION: Notice.

SUMMARY: Notice is hereby given for the meeting on August 31, 2023, of the Substance Abuse and Mental Health Services Administration National Advisory Council (SAMHSA NAC). The meeting is open to the public and can also be accessed virtually. Agenda with call-in information will be posted on the SAMHSA website prior to the meeting at: https://www.samhsa.gov/about-us/advisory-councils/meetings. The meeting will include, but not be limited to, remarks from the Assistant Secretary for Mental Health and Substance Use; consideration and approval of the meeting minutes of April 27, 2023; updates and follow up from the SAMHSA NAC meeting of April 27, 2023; recap of the joint meetings of the councils (JNAC) and Lessons Learned; presentations and council discussions on the following topics: Kids Online Health and Safety; Technical Assistance and Training Strategy, and Strategic Plan Updates; and a general council discussion and public comments.

DATES: August 31, 2023, 10 a.m. to 4 p.m. EDT, Open.

ADDRESSES: 5600 Fishers Lane, Rockville, Maryland 20857 (Pavilion rooms).

FOR FURTHER INFORMATION CONTACT: Carlos Castillo, Committee Management Officer and Designated Federal Official; SAMHSA National Advisory Council, 5600 Fishers Lane, Rockville, Maryland 20857 (mail); telephone: (240) 276-2787; email: carlos.castillo@samhsa.hhs.gov.

SUPPLEMENTARY INFORMATION: The SAMHSA NAC was established to advise the Secretary, Department of Health and Human Services (HHS), and the Assistant Secretary for Mental Health and Substance Use, SAMHSA, to improve the provision of treatments and related services to individuals with respect to substance use and to improve prevention services, promote mental health, and protect legal rights of individuals with mental illness and individuals with substance use disorders or misuse.

Interested persons may present data, information, or views orally or in writing, on issues pending before the Council. Written submissions must be forwarded to the contact person no later than 7 days before the meeting. Oral presentations from the public will be scheduled for the public comment section at the end of the council discussion. Individuals interested in making oral presentations must notify the contact person by 1 p.m. (EDT), August 24, 2023. Up to three minutes will be allotted for each presentation, and as time permits, as these are presented in the order received. Public comments received will become part of the meeting records.

To obtain the call-in number, access code, and/or web access link; submit written or brief oral comments; or request special accommodations for persons with disabilities, please register on-line at: https://snacregister.samhsa.gov, or communicate with the contact person.

Meeting information and a roster of Council members may be obtained either by accessing the SAMHSA Council's website at https://www.samhsa.gov/about-us/advisory-councils/, or by contacting Carlos Castillo.

Dated: July 24, 2023.
Carlos Castillo,
Committee Management Officer.

[FR Doc. 2023-16088 Filed 7-28-23; 8:45 am]

BILLING CODE 4162-20-P